ENVIRONMENTAL PROTECTION AGENCY

[EPA-HQ-OECA-2014-0076; FRL-9989-91-OEI]

Information Collection Request Submitted to OMB for Review and Approval; Comment Request; NESHAP for the Surface Coating of Large Household and Commercial Appliances (Renewal)

AGENCY: Environmental Protection Agency (EPA).

ACTION: Notice.

SUMMARY: The Environmental Protection Agency (EPA) has submitted an information collection request (ICR), NESHAP for the Surface Coating of Large Household and Commercial Appliances (EPA ICR Number 1954.07, OMB Control Number 2060-0457), to the Office of Management and Budget (OMB) for review and approval in accordance with the Paperwork Reduction Act. This is a proposed extension of the ICR, which is currently approved through March 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before April 29, 2019.

ADDRESSES: Submit your comments, referencing Docket ID Number EPA-HQ-OECA-2014-0076, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for the Surface Coating of Large Household and Commercial Appliances (40 CFR part 63, subpart NNNN) apply to both existing and new facilities that perform surface coating of large household and commercial appliances and related parts where the total Hazardous Air Pollutants (HAPs) emitted are greater than or equal to 10 tons per year of any one HAP, or where the total HAPs emitted are greater than or equal to 25 tons per year of any combination of HAPs. New facilities include those that commenced construction or reconstruction after the date of proposal. In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP. This information is being collected to assure compliance with 40 CFR part 63, subpart NNNN.

Form Numbers: None.

Respondents/affected entities: Facilities that perform surface coating of large household and commercial appliances and related parts.

Respondent's obligation to respond: Mandatory (40 CFR part 63, subpart NNNN).

Estimated number of respondents: 10 (total).

Frequency of response: Initially, occasionally, and semiannually.

Total estimated burden: 3,870 hours (per year). Burden is defined at 5 CFR 1320.3(b).

Total estimated cost: $429,000 (per year), which includes $5,400 in annualized capital/startup and/or operation & maintenance costs.

Changes in the Estimates: There is an adjustment decrease in the total estimated burden as currently identified in the OMB Inventory of Approved Burdens. This increase is not due to any program changes. The change in the burden and cost estimates occurred due to a decrease in the total number of facilities subject to the NESHAP. The estimate is based on EPA's recent reevaluation of the source category inventory associated with the recently-proposed amendments to 40 CFR part 63, subpart NNNN (83 FR 46262, September 12, 2018). Per EPA's reevaluation, the number of respondents in the source category has decreased from the estimates in the 2002 final rule because the final rule included assumptions regarding several facilities that were not major sources of HAP. Additionally, there have been changes within the large appliance surface coating industry that result in fewer facilities being subject to the NESHAP. For example, many facilities that used liquid coatings have switched to powder coatings, or have switched to plastic parts and stainless steel instead of painted steel parts, or are using precoated metal coils instead of coating finished parts. As a result, there is a much smaller number of major sources. In addition to the burden decrease from the decreased number of respondents, there is also a burden decrease in the operating and maintenance costs due to the determination that only one affected source uses an emission control device to comply with the NESHAP. These changes result in an overall decrease in the labor hours O&M costs, and number of responses.

Courtney Kerwin,
Director, Regulatory Support Division.

[FR Doc. 2019-06025 Filed 3-28-19; 8:45 am]

BILLING CODE 6560-50-P